DEPARTMENT OF JUSTICE

Immigration and Naturalization Service

8 CFR Part 3

[EOIR No. 130I; AG Order No. 2607-2002]

RIN 1125-AA33

Executive Office for Immigration Review; Section 212(c) Relief for Aliens with Certain Criminal Convictions Before April 1, 1997

AGENCY: Executive Office for Immigration Review, Justice.

ACTION: Correction to proposed rule.

SUMMARY: This document contains a correction to the proposed rule published Tuesday, August 13, 2002, at 67 FR 52627, relating to relief under section 212(c) of the Immigration and Nationality Act for aliens with certain criminal convictions before April 1, 1997.

FOR FURTHER INFORMATION CONTACT: Charles Adkins-Blanch, General Counsel, Executive Office for Immigration Review, Suite 2600, 5107 Leesburg Pike, Falls Church, Virginia, 22041, telephone number (703) 305-0470 (not a toll free call).

SUPPLEMENTARY INFORMATION: The proposed rule that is the subject of these corrections amends Department of Justice regulations by establishing procedures for certain lawful permanent residents (LPRs) to apply for relief from deportation or removal pursuant to former section 212(c) of the Immigration and Nationality Act and sets forth procedures for filing special motions to seek such relief before an Immigration Judge or the Board of Immigration Appeals for LPRs currently in proceedings or under final orders for deportation or removal.

Need for Correction

As published, the proposed rule contains a typographical error that may cause confusion and therefore is in need of clarification. In proposed § 3.44(d), the rule describes the effect of a prior denial of section 212(c) relief on discretionary grounds. As currently published, the rule states that if an LPR had been previously denied relief, a new motion to seek relief would be granted. The actual effect of a previous denial of section 212(c) on discretionary grounds is that a new motion seeking relief would be denied.

Correction

§ 3.44 [Corrected]

1. On page 52632, in the second column, line 13, in paragraph (d) of § 3.44, the words “will be granted” are deleted and the words “will not be granted” are added in lieu thereof.

Rosemary Hart,
Federal Register Liaison Officer.

[FR Doc. 02-21035 Filed 8-21-02; 8:45 am]

BILLING CODE 4410-30-M